DEPARTMENT OF COMMERCE

International Trade Administration

[C-533-839]

Carbazole Violet Pigment 23 from India: Notice of Rescission of Countervailing Duty Administrative Review

AGENCY: Import Administration, International Trade Administration, U.S. Department of Commerce.

EFFECTIVE DATE: March 30, 2007.

FOR FURTHER INFORMATION CONTACT: Jun Jack Zhao or Sean Carey, AD/CVD Operations, Office 6, Import Administration, International Trade Administration, U.S. Department of Commerce, 14th Street and Constitution Avenue, NW, Washington DC 20230; telephone: (202) 482-1396 or (202) 482-3964, respectively.

SUPPLEMENTARY INFORMATION:

Background

On December 1, 2006, the Department of Commerce (the Department) published a notice of opportunity to request an administrative review of the countervailing duty order on carbazole violet pigment 23 (CVP-23) from India. See Antidumping or Countervailing Duty Order, Finding, or Suspended Investigation; Opportunity to Request Administrative Review, 71 FR 69543 (December 1, 2006). On January 3, 2007, Alpanil Industries (Alpanil), an Indian producer and exporter to the United States of CVP-23, timely requested that the Department conduct an administrative review of Alpanil. On February 2, 2007, the Department published a notice of the initiation of the countervailing duty administrative review of CVP-23 from India for the period January 1, 2005 through December 31, 2005. See Initiation of Antidumping and Countervailing Duty Administrative Reviews and Request for Revocation in Part, 72 FR 5005 (February 2, 2007). On March 7, 2007, Alpanil withdrew its request for an administrative review.

Rescission of Review

The Department's regulations at section 351.213(d)(1) provide that the Department will rescind an administrative review if the party that requested the review withdraws its request for review within 90 days of the date of publication of the notice of initiation of the requested review. Alpanil withdrew its request before the 90-day deadline, and Alpanil was the only party to request a review. Therefore, we are rescinding this review of the countervailing duty order on CVP-23 from India covering the period January 1, 2005, through December 31, 2005. The Department intends to issue appropriate assessment instructions directly to U.S. Customs and Border Protection 15 days after the date of publication of this rescission.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: March 26, 2007.
Stephen J. Claeys,
Deputy Assistant Secretary for Import Administration.

[FR Doc. E7-5931 Filed 3-29-07; 8:45 am]

BILLING CODE 3510-DS-S